SOCIAL SECURITY ADMINISTRATION

20 CFR Parts 404 and 416

[Docket No. SSA 2006-0173]

RIN 0960-AG12

Nonpayment of Benefits to Fugitive Felons and Probation or Parole Violators

AGENCY: Social Security Administration.

ACTION: Proposed rules; withdrawal.

SUMMARY: We are withdrawing the proposed rules we published in the Federal Register on December 5, 2005.

DATES: The proposed rules identified in this document are withdrawn as of March 30, 2012.

FOR FURTHER INFORMATION CONTACT: Brian Rudick, Social Insurance Specialist, Office of Regulations, Social Security Administration, 6401 Security Boulevard, Baltimore, MD 21235-6401, (410) 965-7102. For information on eligibility or filing for benefits, call our national toll-free number, 1-800-772-1213 or TTY 1-800-325-0778, or visit our Internet site, Social Security Online, at http://www.socialsecurity.gov.

SUPPLEMENTARY INFORMATION:

Background

On December 5, 2005, we published in the Federal Register a notice of proposed rulemaking (NPRM) titled “Nonpayment of Benefits to Fugitive Felons and Probation and Parole Violators” (70 FR 72411). We have decided not to pursue final rules based on this NPRM at this time. Therefore, we are withdrawing this NPRM.

Michael J. Astrue,
Commissioner of Social Security.

[FR Doc. 2012-7684 Filed 3-29-12; 8:45 am]

BILLING CODE 4191-02-P